DEPARTMENT OF HOUSING AND URBAN DEVELOPMENT

[Docket No. FR-5600-FA-09]

Housing Choice Voucher Program; Office of Public and Indian Housing Announcement of Funding Awards for Fiscal Year 2012

AGENCY: Office of the Assistant Secretary for Public and Indian Housing, HUD.

ACTION: Announcement of Fiscal Year 2012 Awards.

SUMMARY: In accordance with Section 102(a)(4)(C) of the Department of Housing and Urban Development Reform Act of 1989, this document notifies the public of funding awards for Fiscal Year (FY) 2012 to public housing agencies (PHAs) under the Section 8 Housing Choice Voucher Program (HCVP). The purpose of this notice is to publish the names, addresses, and amount of the awards to PHAs for non-competitive funding awards for housing conversion actions, public housing relocations and replacements, moderate rehabilitation replacements, and HOPE VI voucher awards.

FOR FURTHER INFORMATION CONTACT: Michael S. Dennis, Director, Office of Housing Voucher Programs, Office of Public and Indian Housing, Department of Housing and Urban Development, 451 Seventh Street SW., Room 4228, Washington, DC 20410-5000, telephone (202) 402-4059. Hearing- or speech-impaired individuals may call HUD's TTY number at (800) 927-7589. (Only the “800” telephone number is toll-free.)

SUPPLEMENTARY INFORMATION: The regulations governing the HCVP are published at 24 CFR part 982. The regulations for allocating housing assistance budget authority under Section 213(d) of the Housing and Community Development Act of 1974 are published at 24 CFR Part 791, Subpart D.

The purpose of this rental assistance program is to assist eligible families to pay their rent for decent, safe, and sanitary housing. The FY 2012 awardees announced in this notice were provided HCVP tenant protection vouchers (TPVs) funds on an as-needed, non-competitive basis, i.e., not consistent with the provisions of a Notice of Funding Availability (NOFAs). TPV awards made to PHAs for program actions that displace families living in public housing were made on a first-come, first-served basis in accordance with PIH Notice 2007-10, Voucher Funding in Connection with the Demolition or Disposition of Occupied Public Housing Units, and PIH Notice 2010-27, Implementation of the Federal Fiscal Year 2012 Funding Provision for the Housing Choice Voucher Program. Announcements of awards provided under the NOFA process for Mainstream, Designated Housing, Family Unification (FUP), and Veterans Assistance Supportive Housing (VASH) programs will be published in a separate Federal Register notice.

Awards published under this notice were provided (1) to assist families living in HUD-owned properties that are being sold; (2) to assist families affected by the expiration or termination of their Project-based Section 8 and Moderate Rehabilitation contracts; (3) to assist families in properties where the owner has prepaid the HUD mortgage; (4) to assist families in projects where the Rental Supplement and Rental Assistance Payments contracts are expiring (Rental Assistance Demonstration (RAD—Second Component per PIH Notice 2012-32); (5) to provide relocation housing assistance in connection with the demolition of public housing; (6) to provide replacement housing assistance for single room occupancy (SRO) units that fail housing quality standards (HQS); and (7) to assist families in public housing developments that are scheduled for demolition in connection with a HUD-approved HOPE VI revitalization or demolition grant.

A special administrative fee of $200 per occupied unit was provided to PHAs to compensate for any extraordinary HCVP administrative costs associated with the Multifamily Housing conversion action(s).

The Department awarded total new budget authority of $119,362,818 for 16,436 housing choice vouchers to recipients under all of the above-mentioned categories. This budget authority includes $1,343,896 of unobligated commitments made in FY 2011. These funds were reserved by September 30, 2011, but not contracted until FY 2012, and thus have been included with obligated commitments for FY 2012.

In accordance with Section 102(a)(4)(C) of the Department of Housing and Urban Development Reform Act of 1989 (103 Stat. 1987, 42 U.S.C. 3545), the Department is publishing the names, addresses, and amounts of those awards as shown in Appendix A alphabetically by State then by PHA name.

Dated: January 4, 2013.
Sandra B. Henriquez,
Assistant Secretary for Public and Indian Housing.

Section 8 Rental Assistance Programs Announcement of Awards for Fiscal Year 2012
Housing agency | Address | Units | Award
Public Housing Tenant Protection
Moderate Rehabilitation Replacements
CA: OAKLAND HA | 1619 HARRISON ST, OAKLAND, CA 94612 | 9 | $97,143
CA: COUNTY OF SACRAMENTO HA | P.O. BOX 1834, SACRAMENTO, CA 95812 | 1 | 8,837
CA: SAN JOSE HA | 505 WEST JULIAN ST, SAN JOSE, CA 95110 | 5 | 72,589
CA: COUNTY OF SANTA CLARA HA | 505 WEST JULIAN ST, SAN JOSE, CA 95110 | 8 | 116,380
CT: WATERBURY HA | 2 LAKEWOOD RD, WATERBURY, CT 06704 | 3 | 22,962
FL: HA OF JACKSONVILLE | 1300 BROAD ST, JACKSONVILLE, FL 32202 | 8 | 57,411
IL: CHICAGO HA | 60 EAST VAN BUREN ST, 11TH FL, CHICAGO, IL 60605 | 12 | 118,736
MO: ST. LOUIS COUNTY HA | 8865 NATURAL BRIDGE, ST. LOUIS, MO 63121 | 32 | 216,407
MT: MT DEPT OF COMMERCE | 301 S. PARK, HELENA, MT 59620 | 15 | 71,757
NC: HA WINSTON-SALEM | 500 WEST FOURTH ST, STE 300, WINSTON-SALEM, NC 27101 | 7 | 42,024
ND: MINOT HA | 108 EAST BURDICK EXPWY, MINOT, ND 58701 | 25 | 127,536
ND: BARNES COUNTY HA | 120 12TH ST, NW., VALLEY CITY, ND 58072 | 8 | 27,739
ND: STARK COUNTY HA | 1149 WEST VILLARD, DICKINSON, ND 58602 | 5 | 17,160
NY: TOWN OF AMHERST | 1195 MAIN ST, BUFFALO, NY 14209 | 1 | 4,571
NY: CITY OF BUFFALO | 470 FRANKLIN ST, BUFFALO, NY 14202 | 9 | 42,624
NY: NYS HSG TRUST FUND CORP | 38-40 STATE ST, ALBANY, NY 12207 | 10 | 90,770
OH: CUYAHOGA MHA | 8120 KINSMAN RD, CLEVELAND, OH 44104 | 3 | 19,811
OK: TULSA HA | PO BOX 6369, TULSA, OK 74148 | 7 | 39,257
OK: HENRYETTA HA | 1708 WEST RAGAN, HENRYETTA, OK 74437 | 20 | 67,793
PA: HA OF CITY OF PITTSBURGH | 200 ROSS ST, PITTSBURGH, PA 15219 | 7 | 40,425
TX: MISSION HA | 906 E 8TH ST, MISSION, TX 78572 | 13 | 45,532
VA: ARLINGTON CO DEPT OF HUM SERV | 2100 WASHINGTON BLVD, 3RD FL, ARLINGTON, VA 22204 | 35 | 403,920
Total for Moderate Rehabilitation Replacements |  | 243 | 1,751,384
Public Housing Relocation and Replacement
AL: HA OF SHEFFIELD | PO BOX 429, SHEFFIELD, AL 35660 | 16 | $41,247
AL: HA OF TUSCALOOSA | 2117 JACK WARNER PKWY, TUSCALOOSA, AL 35401 | 125 | 532,966
AR: JONESBORO URB REN & HA | 330 UNION ST, JONESBORO, AR 72401 | 8 | 40,809
CA: CO OF SAN BERNARDINO HA | 715 E. BRIER DR, SAN BERNARDINO, CA 92408 | 105 | 573,201
CA: ALAMEDA COUNTY HA | 22941 ATHERTON ST, HAYWARD, CA 94541 | 100 | 700,765
CO: AURORA HA | 10745 E. KENTUCKY AVE, AURORA, CO 80012 | 55 | 370,187
CT: ANSONIA HA | 36 MAIN ST, ANSONIA, CT 06401 | 57 | 332,522
DC: DISTRICT OF COLUMBIA HA | 1133 NORTH CAPITOL ST, NE., WASHINGTON, DC 20002 | 50 | 690,120
FL: HA OF SARASOTA | 1300 BOULEVARD OF THE ARTS, SARASOTA, FL 34236 | 56 | 524,556
FL: HA WEST PALM BEACH GEN FUND | 1715 DIVISION AVE, WEST PALM BEACH, FL 33407 | 52 | 427,944
FL: MILTON HA | 5668 BYROM ST, MILTON, FL 32570 | 50 | 272,786
FL: HERNANDO COUNTY HA | 20 NORTH MAIN ST, BROOKSVILLE, FL 34601 | 105 | 456,827
GA: HA OF MARIETTA | 95 COLE ST, MARIETTA, GA 30061 | 120 | 768,018
GA: NORTHWEST GEORGIA HA | 800 NORTH FIFTH AVE, ROME, GA 30162 | 82 | 374,973
IN: MUNCIE HA | 402 E. SECOND ST, MUNCIE, IN 47302 | 7 | 25,529
MD: MONTGOMERY CO HA | 10400 DETRICK AVE, KENSINGTON, MD 20895 | 200 | 1,651,125
MD: ANNE ARUNDEL COUNTY HA | 7885 GORDON CT, GLEN BURNIE, MD 21060 | 92 | 485,429
MD: WASHINGTON COUNTY HA | PO BOX 2944, HAGERSTOWN, MD 21741 | 80 | 446,765
MN: BLOOMINGTON HRA | 1800 WEST OLD SHAKOPEE RD, BLOOMINGTON, MN 55431 | 26 | 179,597
NC: HA OF THE CITY OF ASHEVILLE | PO BOX 1898, ASHEVILLE, NC 28802 | 6 | 21,497
NC: HA OF CITY OF CHARLOTTE | 1301 SOUTH BLVD, CHARLOTTE, NC 28236 | 26 | 216,708
NJ: LONG BRANCH HA | 336 GARFIELD CT, LONG BRANCH, NJ 07740 | 136 | 1,573,151
NJ: JERSEY CITY HA | 400 US HIGHWAY #1, JERSEY CITY, NJ 07306 | 15 | 146,920
NJ: NEW BRUNSWICK HA | 7 VAN DYKE AVE, NEW BRUNSWICK, NJ 08901 | 58 | 641,197
NY: HA OF HUNTINGTON | 1-A LOWNDES AVE, HUNTINGTION STA, NY 11746 | 40 | 633,461
OH: COLUMBUS METRO. HA | 880 EAST 11TH AVE, COLUMBUS, OH 43211 | 494 | 2,438,093
OH: CUYAHOGA MHA | 8120 KINSMAN RD, CLEVELAND, OH 44104 | 260 | 1,552,559
OH: LUCAS MHA | 435 NEBRASKA AVE, TOLEDO, OH 43697 | 141 | 809,318
PA: LACKAWANNA COUNTY HA | 2019 WEST PINE ST, DUNMORE, PA 18512 | 76 | 318,279
PA: HA OF THE CO OF CHESTER | 30 W. BARNARD ST, WEST CHESTER, PA 19382 | 24 | 168,324
PA: INDIANA COUNTY HA | 104 PHILADELPHIA ST, INDIANA, PA 15701 | 24 | 97,453
RQ: PUERTO RICO DEPT OF HSNG | PO BOX 21365, SAN JUAN, PR 00928 | 482 | 1,865,057
SC: HA GREENVILLE | PO BOX 10047, GREENVILLE, SC 29603 | 172 | 664,763
TN: KNOXVILLE COMM DEV CORP | PO BOX 3550, KNOXVILLE, TN 37927 | 182 | 1,046,769
TN: CHATTANOOGA H/A | PO BOX 1486, CHATTANOOGA, TN 37402 | 370 | 2,040,351
TX: AUSTIN HA | PO BOX 6159, AUSTIN, TX 78762 | 74 | 610,953
TX: HOUSTON HA | 2640 FOUNTAIN VIEW, HOUSTON, TX 77057 | 74 | 577,715
TX: HA OF ORANGE | P.O. BOX 3107, ORANGE, TX 77630 | 33 | 196,290
VA: RICHMOND REDEV & HA | 901 CHAMBERLAYNE PKWY, RICHMOND, VA 23261 | 18 | 141,828
VT: RUTLAND HA | 5 TREMONT ST, RUTLAND, VT 05701 | 11 | 30,786
WA: KING COUNTY HA | 600 ANDOVER PARK WEST, SEATTLE, WA 98188 | 508 | 6,225,906
WA: HA OF THE CITY OF TACOMA | 902 SOUTH “L” ST, STE 2C, TACOMA, WA 98405 | 103 | 676,112
WA: HA OF THE CITY OF RENTON | 970 HARRINGTON AVE, NE., RENTON, WA 98056 | 16 | 133,582
WI: HA OF CITY OF MILWAUKEE | 809 NORTH BROADWAY, MILWAUKEE, WI 53201 | 65 | 411,044
Total for Public Housing Relocation and Replacement |  | 4,794 | 32,133,482
SRO—Relocation/Replacement
IL: CHICAGO HA | 60 EAST VAN BUREN ST, 11TH FL, CHICAGO, IL 60605 | 50 | 482,298
VA: ROANOKE REDEV & HA | 2624 SALEM TRNPK, NW., ROANOKE, VA 24017 | 36 | 207,412
Total for SRO—Relocation/Replacement |  | 86 | 689,710
Witness Relocation Assistance
FL: ORLANDO HA | 390 NORTH BUMBY AVE, ORLANDO, FL 32803 | 1 | 11,856
FL: MIAMI DADE HA | 701 NW 1ST COURT, 16TH FL, MIAMI, FL 33136 | 1 | 15,552
FL: HA OF OCALA | P.O. BOX 2468, OCALA, FL 34478 | 1 | 7,764
MD: MONTGOMERY CO HA | 10400 DETRICK AVE, KENSINGTON, MD 20895 | 2 | 34,716
MD: HARFORD COUNTY HA | 15 SOUTH MAIN ST, STE 106, BEL AIR, MD 21014 | 1 | 13,560
NC: HA OF CITY OF CHARLOTTE | 1301 SOUTH BLVD, CHARLOTTE, NC 28236 | 1 | 11,952
NJ: BURLINGTON CO BRD OF SOC SERV | 795 WOODLANE RD, MOUNT HOLLY, NJ 08060 | 1 | 11,424
NV: CITY OF RENO HA | 1525 EAST NINTH ST, RENO, NV 89512 | 1 | 15,636
PA: ALLENTOWN HA | 1339 ALLEN ST, ALLENTOWN, PA 18102 | 1 | 10,308
RQ: PUERTO RICO DEPT OF HSNG | PO BOX 21365, SAN JUAN, PR 00928 | 1 | 7,308
VA: VIRGINIA HSNG DEV AUTH | 601 SOUTH BELVIDERE ST, RICHMOND, VA 23220 | 1 | 16,320
Total for Witness Relocation Assistance |  | 12 | 156,396
Tenant Protection Vouchers for HOPE VI
CO: HA OF CITY AND CO OF DENVER | 777 GRANT ST, DENVER, CO 80203 | 54 | 369,647
MA: BOSTON HA | 52 CHAUNCY ST, BOSTON, MA 02111 | 51 | 655,397
MA: TAUNTON HA | 30 OLNEY ST, STE B, TAUNTON, MA 02780 | 165 | 1,599,247
Total for TP—HOPE VI |  | 270 | 2,624,291
Total for Public Housing Tenant Protection |  | 5,405 | 37,355,263
Housing Conversion Actions
RAD Conversion Assistance
CA: CITY OF SAN LUIS OBISPO HA | 487 LEFF ST, SAN LUIS OBISPO, CA 93406 | 17 | 67,097
CA: CITY OF SANTA BARBARA HA | 808 LAGUNA ST, SANTA BARBARA, CA 93101 | 106 | 773,071
PA: LACKAWANNA COUNTY HA | 2019 WEST PINE ST, DUNMORE, PA 18512 | 15 | 48,550
Total for RAD Conversion Assistance |  | 138 | 888,718
Housing Conversion Rent Supplement
CA: CITY OF SAN LUIS OBISPO HA | 487 LEFF ST, SAN LUIS OBISPO, CA 93406 | 7 | 53,988
CT: TORRINGTON HA | 110 PROSPECT ST, TORRINGTON, CT 06790 | 36 | 223,245
CT: CONN DEPT OF SOC SERV | 25 SIGOURNEY ST, 9TH FL, HARTFORD, CT 06105 | 14 | 106,829
MA: BOSTON HA | 52 CHAUNCY ST, BOSTON, MA 02111 | 33 | 424,080
NY: HA OF HARRIETSTOWN | 14 KIWASSA RD, STE 1, SARANAC LAKE, NY 12983 | 8 | 28,838
SD: CANTON HSNG & REDEV COMM | 903 W. FIFTH ST, CANTON, SD 57013 | 7 | 30,577
WA: SEATTLE HA | 120 SIXTH AVE NORTH, SEATTLE, WA 98109 | 85 | 838,184
Total for Housing Conversion Rent Supplement |  | 190 | 1,705,741
Property Disposition Relocation
MO: ST. LOUIS HA | 3520 PAGE BLVD, ST. LOUIS, MO 63106 | 34 | 173,181
MS: MERIDIAN HA | PO BOX 870, MERIDIAN, MS 39302 | 24 | 128,117
MS: HA OF SOUTH DELTA | 202 WESTON AVE, LELAND, MS 38756 | 11 | 52,502
Total for Property Disposition Relocation |  | 69 | 353,800
Prepayments
CA: OAKLAND HA | 1619 HARRISON ST, OAKLAND, CA 94612 | 109 | 1,176,507
CA: CITY OF LOS ANGELES HSG AUTH | 2600 WILSHIRE BLVD, 3RD FL, LOS ANGELES, CA 90057 | 12 | 124,360
CA: COUNTY OF MONTEREY HSG AUTH | 123 RICO ST, SALINAS, CA 93907 | 105 | 881,975
CA: ALAMEDA COUNTY HSG AUTH | 22941 ATHERTON ST, HAYWARD, CA 94541 | 96 | 1,251,821
CA: COUNTY OF ORANGE HA | 1770 NORTH BRDWY, SANTA ANA, CA 92706 | 19 | 210,052
CO: HA OF CITY AND CO OF DENVER | 777 GRANT ST, DENVER, CO 80203 | 110 | 1,003,979
CT: CONN DEPT OF SOC SERV | 25 SIGOURNEY ST, 9TH FL, HARTFORD, CT 06105 | 148 | 1,121,706
FL: MIAMI DADE HA | 701 NW 1ST COURT, 16TH FL, MIAMI, FL 33136 | 199 | 2,099,453
FL: HA HOLLYWOOD | 7300 N. DAVIE RD EXT, HOLLYWOOD, FL 33024 | 100 | 1,015,176
IL: CHICAGO HA | 60 EAST VAN BUREN ST, 11TH FL, CHICAGO, IL 60605 | 160 | 1,611,571
IL: ELGIN HA | 120 SOUTH STATE ST, ELGIN, IL 60123 | 32 | 211,083
KY: LOUISVILLE HA | 420 SOUTH EIGHTH ST, LOUISVILLE, KY 40203 | 404 | 2,433,198
KY: MAYFIELD HA | 312 BROOKSIDE DR, MAYFIELD, KY 42066 | 57 | 108,799
MA: BOSTON HA | 52 CHAUNCY ST, BOSTON, MA 02111 | 28 | 361,029
MA: CAMBRIDGE HA | 675 MASSACHUSETTS AVE, CAMBRIDGE, MA 02139 | 32 | 504,975
MA: SPRINGFIELD HA | 25 SAAB COURT, SPRINGFIELD, MA 01101 | 144 | 1,059,558
MA: BEVERLY HA | 137 REAR BRIDGE ST, BEVERLY, MA 01915 | 100 | 962,568
MA: COMM DEV PROG COMM OF MA, EOCD | 100 CAMBRIDGE ST, BOSTON, MA 02114 | 338 | 3,730,385
MD: HARFORD COUNTY HA | 15 SOUTH MAIN ST, STE 106, BEL AIR, MD 21014 | 160 | 727,787
MD: BALTIMORE CO. HSNG OFFICE | 6401 YORK RD, 1 ST FL, BALTIMORE, MD 21212 | 100 | 454,980
ME: AUGUSTA HA | 33 UNION ST, STE 3, AUGUSTA, ME 04330 | 0 | 16,337
MI: DETROIT HSNG COMMISSION | 1301 EAST JEFFERSON AVE, DETROIT, MI 48207 | 35 | 254,604
MI: MICHIGAN STATE HSG DEV AUTH | P.O. BOX 30044, LANSING, MI 48909 | 70 | 357,666
MN: WORTHINGTON HRA | 819 TENTH ST, WORTHINGTON, MN 56187 | 23 | 85,273
NC: WESTERN PIEDMONT COG | 736 4TH ST, SW., HICKORY, NC 28603 | 9 | 41,935
NE: BELLEVUE HA | 8214 ARMSTRONG CIRCLE, BELLEVUE, NE 68147 | 55 | 312,741
NY: HA OF SYRACUSE | 516 BURT ST, SYRACUSE, NY 13202 | 359 | 1,922,952
NY: HA OF SCHENECTADY | 375 BROADWAY, SCHENECTADY, NY 12305 | 21 | 124,768
NY: HA OF ROCHESTER | 675 WEST MAIN ST, ROCHESTER, NY 14611 | 497 | 2,527,722
NY: THE CITY OF NEW YORK DHPD | 100 GOLD ST, RM 501, NEW YORK, NY 10038 | 962 | 10,643,555
NY: CITY OF NIAGARA FALLS COM DEV | 1022 MAIN ST, NIAGARA FALLS, NY 14302 | 17 | 71,888
NY: NYS HSG TRUST FUND CORP | 38-40 STATE ST, ALBANY, NY 12207 | 533 | 3,435,802
OH: CUYAHOGA MHA | 8120 KINSMAN RD, CLEVELAND, OH 44104 | 9 | 60,572
OH: CINCINNATI METRO HA | 16 WEST CENTRAL PKWY, CINCINNATI, OH 45210 | 28 | 96,970
OH: GREENE METRO HA | 538 NORTH DETROIT ST, XENIA, OH 45385 | 46 | 245,623
OK: OKLAHOMA HSNG FIN AGENCY | PO BOX 26720, OKLAHOMA CITY, OK 73126 | 23 | 65,014
OR: HA OF THE COUNTY OF | PO BOX 1510, OREGON CITY, OR 97045 | 44 | 299,666
OR: COMM SERV AGENCY OF LANE CO | 177 DAY ISLAND RD, EUGENE, OR 97401 | 46 | 242,692
PA: PHILADELPHIA HA | 12 SOUTH 23RD ST, PHILADELPHIA, PA 19103 | 50 | 509,325
PA: HARRISBURG HA | 351 CHESTNUT ST, 12TH FL, HARRISBURG, PA 17101 | 108 | 760,778
PA: BEAVER COUNTY HA | 300 STATE ST, BEAVER, PA 15009 | 70 | 217,558
PA: WASHINGTON COUNTY HA | 100 SOUTH FRANKLIN ST, WASHINGTON, PA 15301 | 63 | 279,017
PA: JOHNSTOWN HA | 501 CHESTNUT ST, JOHNSTOWN, PA 15907 | 134 | 534,644
PA: ERIE COUNTY HA | 120 S. CENTER, CORRY, PA 16407 | 47 | 130,821
RI: EAST PROVIDENCE H A | 99 GOLDSMITH AVE, EAST PROVIDENCE, RI 02914 | 99 | 725,250
RI: RHODE ISLAND HSG MORT FIN CORP | 44 WASHINGTON ST, PROVIDENCE, RI 02903 | 51 | 251,541
SC: HA SOUTH CAROLINA REG NO 1 | 404 CHURCH ST, LAURENS, SC 29360 | 20 | 100,022
SC: HA OF GREENWOOD | PO BOX 973, GREENWOOD, SC 29648 | 89 | 345,156
TN: METROPOLITAN DEV & HA | 701 SOUTH SIXTH ST, NASHVILLE, TN 37202 | 115 | 738,203
TX: SAN ANTONIO HA | 818 S. FLORES ST, SAN ANTONIO, TX 78295 | 100 | 637,272
TX: MC ALLEN HA | 2301 JASMINE AVE, MC ALLEN, TX 78501 | 80 | 336,384
VA: ALEXANDRIA REDEV & HA | 600 N FAIRFAX ST, ALEXANDRIA, VA 22314 | 20 | 261,562
VA: CHARLOTTESVILLE REDEV & HA | 605 EAST MAIN ST, RM A040, CHARLOTTESVILLE, VA 22902 | 162 | 1,193,810
VA: HAMPTON REDEVELOPEMENT & HSG AUTH | P.O. BOX 280, HAMPTON, VA 23669 | 3 | 23,963
VA: VIRGINIA HSNG DEV AUTH | 601 SOUTH BELVIDERE ST, RICHMOND, VA 23220 | 160 | 1,088,876
VT: RUTLAND HA | 5 TREMONT ST, RUTLAND, VT 05701 | 121 | 338,643
WA: SEATTLE HA | 120 SIXTH AVE NORTH, SEATTLE, WA 98109 | 205 | 2,142,882
WA: HA OF CITY OF YAKIMA | 810 N 6TH AVE, YAKIMA, WA 98902 | 17 | 79,997
WI: SHEBOYGAN HA | PO BOX 1052, SHEBOYGAN, WI 53082 | 8 | 31,039
WY: ROCK SPRINGS HA | 233 C ST, ROCK SPRINGS, WY 82901 | 5 | 25,113
Total for Prepayments |  | 6,959 | 52,608,598
Terminations/Opt-Outs
AK: AK HSG FINANCE CORP | PO BOX 101020, ANCHORAGE, AK 99510 | 26 | 143,432
AR: HA OF CITY OF LITTLE ROCK | 100 S. ARCH ST, LITTLE ROCK, AR 72201 | 40 | 227,438
AR: HA OF TEXARKANA | 911 FERGUSON ST, TEXARKANA, AR 71854 | 53 | 252,518
AR: JONESBORO URB REN & HA | 330 UNION ST, JONESBORO, AR 72401 | 22 | 113,736
CA: CITY OF LOS ANGELES HA | 2600 WILSHIRE BLVD, 3RD FL, LOS ANGELES, CA 90057 | 147 | 943,660
CA: COUNTY OF SACRAMENTO HA | P.O. BOX 1834, SACRAMENTO, CA 95812 | 8 | 47,128
CA: YOLO COUNTY HA | 147 W. MAIN ST, WOODLAND, CA 95776 | 0 | 347,760
CA: COUNTY OF SANTA CLARA HA | 505 WEST JULIAN ST, SAN JOSE, CA 95110 | 15 | 109,106
CA: SANTA CRUZ COUNTY HA | 2931 MISSION ST, SANTA CRUZ, CA 95060 | 26 | 153,005
CA: COUNTY OF SAN DIEGO | 3989 RUFFIN RD, SAN DIEGO, CA 92123 | 105 | 1,019,138
CA: CITY OF NATIONAL CITY | 140 E. 12TH ST, STE B, NATIONAL CITY, CA 91950 | 79 | 331,885
CO: COLORADO DIVISION OF HSNG | 1313 SHERMAN ST, RM 518, DENVER, CO 80203 | 39 | 268,674
CT: WATERBURY HA | 2 LAKEWOOD RD, WATERBURY, CT 06704 | 11 | 87,187
CT: STAMFORD HA | 22 CLINTON AVE, STAMFORD, CT 06901 | 19 | 242,349
FL: ST. PETERSBURG H/A | P.O. BOX 12849, ST. PETERSBURG, FL 33733 | 189 | 1,571,565
FL: HA OF MIAMI BEACH | 200 ALTON RD, MIAMI BEACH, FL 33139 | 112 | 983,015
GA: HA OF ATLANTA GA | 230 JOHN WESLEY DOBBS AVE, NE., ATLANTA, GA 30303 | 122 | 1,216,067
HI: COUNTY OF HAWAII HCD | 50 WAILUKU DRIVE, HILO, HI 96720 | 9 | 42,473
IA: SOUTHERN IOWA REG HA | 219 N PINE, CRESTON, IA 50801 | 28 | 108,138
IA: AREA XV MULTI-COUNTY HA | 417 NORTH COLLEGE, AGENCY, IA 52530 | 24 | 72,204
IA: SOUTHEAST IOWA REG HA | 218 N. 3RD ST, STE 309, BURLINGTON, IA 52601 | 15 | 35,841
IN: INDIANA HSNG & COMM DEV | 30 S. MERIDIAN ST, STE 1000, INDIANAPOLIS, IN 46204 | 68 | 348,277
KS: TOPEKA HA | 2010 SE CALIFORNIA AVE, TOPEKA, KS 66607 | 47 | 208,719
KS: SALINA HA | 469 S. 5TH STREET, SALINA, KS 67402 | 6 | 9,768
KS: HAYS HA | 1709 SUNSET TRAIL, HAYS, KS 67601 | 12 | 45,778
KY: CAMPBELL COUNTY HA | PO BOX 72424, NEWPORT, KY 41072 | 38 | 219,961
KY: KENTUCKY HSNG CORP | 1231 LOUISVILLE RD, FRANKFORT, KY 40601 | 15 | 57,069
LA: NEW ORLEANS HA | 4100 TOURO ST, NEW ORLEANS, LA 70122 | 95 | 884,252
MA: BOSTON HA | 52 CHAUNCY ST, BOSTON, MA 02111 | 59 | 760,095
MD: HA OF CITY OF FREDERICK | 209 MADISON ST, FREDERICK, MD 21701 | 33 | 351,133
MD: MONTGOMERY CO HA | 10400 DETRICK AVE, KENSINGTON, MD 20895 | 84 | 1,109,556
MD: HOWARD COUNTY HSNG COMM | 6751 COLUMBIA GATEWAY DR, 3RD FL, COLUMBIA, MD 21046 | 44 | 196,450
ME: MAINE STATE HA | 353 WATER ST, AUGUSTA, ME 04330 | 16 | 99,444
MI: DETROIT HSNG COMM | 1301 EAST JEFFERSON AVE, DETROIT, MI 48207 | 139 | 1,043,023
MI: PLYMOUTH HSNG COMM | 1160 SHERIDAN, PLYMOUTH, MI 48170 | 34 | 136,356
MI: MICHIGAN STATE HSG DEV AUTH | P.O. BOX 30044, LANSING, MI 48909 | 150 | 473,382
MO: ST. LOUIS HA | 3520 PAGE BLVD, ST. LOUIS, MO 63106 | 20 | 101,871
MO: DALLAS COUNTY PHA | 215 SOUTH BARNES, SPRINGFIELD, MO 65802 | 16 | 31,364
MT: MT DEPT OF COMMERCE | 301 S. PARK, HELENA, MT 59620 | 9 | 28,703
NC: GREENSBORO HA | PO BOX 21287, GREENSBORO, NC 27420 | 90 | 460,469
NE: SOUTH SIOUX CITY HA | 118 E. 21ST ST, SOUTH SIOUX CITY, NE 68776 | 51 | 124,636
NY: HA OF AMSTERDAM | 52 DIVISION ST, AMSTERDAM, NY 12010 | 45 | 229,543
NY: VILLAGE OF COBLESKILL | 349 MINERAL SPRINGS RD, COBLESKILL, NY 12043 | 64 | 158,243
NY: NYS HSG TRUST FUND CORP | 38-40 STATE ST, ALBANY, NY 12207 | 128 | 1,161,861
OR: COMM SERV AGENCY OF LANE CO | 177 DAY ISLAND RD, EUGENE, OR 97401 | 21 | 88,144
OR: HA OF JACKSON COUNTY | 2231 TABLE ROCK RD, MEDFORD, OR 97501 | 51 | 242,761
PA: PHILADELPHIA HA | 12 SOUTH 23RD ST, PHILADELPHIA, PA 19103 | 49 | 502,564
PA: ALLEGHENY COUNTY HA | 625 STANWIX ST, 12TH FL, PITTSBURGH, PA 15222 | 27 | 82,551
PA: HA OF COUNTY OF BUTLER | 114 WOODY DR, BUTLER, PA 16001 | 3 | 9,421
PA: JOHNSTOWN HA | 501 CHESTNUT ST, JOHNSTOWN, PA 15907 | 39 | 81,975
PA: YORK CITY HA | 31 S. BROAD ST, YORK, PA 17405 | 0 | 117,000
PA: CLARION COUNTY HA | 8 WEST MAIN ST, CLARION, PA 16214 | 0 | 29,158
PA: ERIE COUNTY HA | 120 S. CENTER, CORRY, PA 16407 | 26 | 63,323
RQ: MUNICIPALITY OF CAROLINA | PO BOX 8, CAROLINA, PR 00986 | 64 | 252,037
SD: CITY OF LENNOX HOUSING & REDEV | 217 SOUTH PINE ST, LENNOX, SD 57039 | 3 | 14,403
SD: HURON HA | PO BOX 283, HURON, SD 57350 | 7 | 19,971
TN: KNOXVILLE COMM DEV CORP | PO BOX 3550, KNOXVILLE, TN 37927 | 76 | 437,113
TN: METROPOLITAN DEV & HA | 701 SOUTH SIXTH ST, NASHVILLE, TN 37202 | 376 | 1,869,581
TN: HA MURFREESBORO | 415 NORTH MAPLE ST, MURFREESBORO, TN 37130 | 15 | 86,149
TX: BEEVILLE HA | PO BOX 427, BEEVILLE, TX 78104 | 24 | 87,163
UT: HA OF CITY OF OGDEN | 1100 GRANT AVE, OGDEN, UT 84404 | 35 | 204,137
WA: SEATTLE HA | 120 SIXTH AVE NORTH, SEATTLE, WA 98109 | 46 | 501,748
WA: KING COUNTY HA | 600 ANDOVER PARK WEST, SEATTLE, WA 98188 | 93 | 908,212
WA: HA OF CITY OF BREMERTON | 110 RUSSELL RD, BREMERTON, WA 98312 | 49 | 339,217
WA: HA CITY OF EVERETT | 3107 COLBY AVE, EVERETT, WA 98206 | 64 | 551,816
WA: HA OF SNOHOMISH COUNTY | 12625 4TH AVE W, STE 200, EVERETT, WA 98204 | 42 | 359,443
WA: SPOKANE HA WEST | 55 MISSION ST, STE 104, SPOKANE, WA 99201 | 16 | 81,047
WI: BROWN COUNTY HA | 100 N JEFFERSON ST, RM 608, GREEN BAY, WI 54301 | 146 | 662,852
WI: MILWAUKEE CO HA 102 | 102 2711 W WELLS ST, 1ST FL, RM 102, MILWAUKEE,, WI 53208 | 29 | 204,363
WY: ROCK SPRINGS HA | 233 C ST, ROCK SPRINGS, WY 82901 | 22 | 68,677
Total for Terminations/Opt-outs |  | 3,675 | 24,421,098
Total for Housing Conversion Actions |  | 11,031 | 79,977,555
Special Fees—Terminations/Opt-Outs
AK: AK HSG FINANCE CORP | PO BOX 101020, ANCHORAGE, AK 99510 | 0 | 5,000
AR: HA OF CITY OF LITTLE ROCK | 100 S. ARCH ST, LITTLE ROCK, AR 72201 | 0 | 7,600
AR: HA OF TEXARKANA | 911 FERGUSON ST, TEXARKANA, AR 71854 | 0 | 9,200
AR: JONESBORO URB RENL & HA | 330 UNION ST, JONESBORO, AR 72401 | 0 | 3,000
CA: CITY OF LOS ANGELES HA | 2600 WILSHIRE BLVD, 3RD FL, LOS ANGELES, CA 90057 | 0 | 29,400
CA: COUNTY OF SACRAMENTO HA | P.O. BOX 1834, SACRAMENTO, CA 95812 | 0 | 1,600
CA: COUNTY OF SANTA CLARA HA | 505 WEST JULIAN ST, SAN JOSE, CA 95110 | 0 | 3,000
CA: SANTA CRUZ COUNTY HA | 2931 MISSION ST, SANTA CRUZ, CA 95060 | 0 | 5,200
CA: COUNTY OF SAN DIEGO | 3989 RUFFIN RD, SAN DIEGO, CA 92123 | 0 | 20,400
CA: CITY OF NATIONAL CITY | 140 E. 12TH ST, STE B, NATIONAL CITY, CA 91950 | 0 | 15,800
CO: COLORADO DIVISION OF HSNG | 1313 SHERMAN ST, RM 518, DENVER, CO 80203 | 0 | 3,600
CT: WATERBURY HA | 2 LAKEWOOD RD, WATERBURY, CT 06704 | 0 | 2,200
CT: STAMFORD HA | 22 CLINTON AVE, STAMFORD, CT 06901 | 0 | 3,600
FL: ST. PETERSBURG H/A | P.O. BOX 12849, ST. PETERSBURG, FL 33733 | 0 | 37,800
FL: HA OF MIAMI BEACH | 200 ALTON RD, MIAMI BEACH, FL 33139 | 0 | 22,400
GA: HA OF ATLANTA GA | 230 JOHN WESLEY DOBBS AVE, NE., ATLANTA, GA 30303 | 0 | 24,400
HI: COUNTY OF HAWAII HCD | 50 WAILUKU DR, HILO, HI 96720 | 0 | 800
IA: SOUTHERN IOWA REG HA | 219 N PINE, CRESTON, IA 50801 | 0 | 5,600
IA: AREA XV MULTI-COUNTY HA | 417 NORTH COLLEGE, AGENCY, IA 52530 | 0 | 4,800
IA: SOUTHEAST IOWA REG HA | 218 N. 3RD ST, STE 309, BURLINGTON, IA 52601 | 0 | 3,000
IN: INDIANA HSNG & COMM DEV | 30 S. MERIDIAN ST, STE 1000, INDIANAPOLIS, IN 46204 | 0 | 10,800
KS: TOPEKA HA | 2010 SE CALIFORNIA AVE, TOPEKA, KS 66607 | 0 | 9,400
KS: SALINA HA | 469 S. 5TH ST, SALINA, KS 67402 | 0 | 1,200
KS: HAYS HA | 1709 SUNSET TRAIL, HAYS, KS 67601 | 0 | 2,400
KY: CAMPBELL COUNTY HA | PO BOX 72424, NEWPORT, KY 41072 | 0 | 5,200
KY: KENTUCKY HSNG CORP | 1231 LOUISVILLE RD, FRANKFORT, KY 40601 | 0 | 2,800
LA: NEW ORLEANS HA | 4100 TOURO ST, NEW ORLEANS, LA 70122 | 0 | 9,400
MA: BOSTON HA | 52 CHAUNCY ST, BOSTON, MA 02111 | 0 | 11,200
MD: HA OF CITY OF FREDERICK | 209 MADISON ST, FREDERICK, MD 21701 | 0 | 5,400
MD: MONTGOMERY CO HA | 10400 DETRICK AVE, KENSINGTON, MD 20895 | 0 | 15,600
MD: HOWARD COUNTY HSNG COMM | 6751 COLUMBIA GATEWAY DR, 3RD FL, COLUMBIA, MD 21046 | 0 | 8,800
ME: MAINE STATE HA | 353 WATER ST, AUGUSTA, ME 04330 | 0 | 3,000
MI: DETROIT HSNG COMM | 1301 EAST JEFFERSON AVE, DETROIT, MI 48207 | 0 | 20,000
MI: PLYMOUTH HSNG COMM | 1160 SHERIDAN, PLYMOUTH, MI 48170 | 0 | 4,400
MI: MICHIGAN STATE HSG DEV AUTH | P.O. BOX 30044, LANSING, MI 48909 | 0 | 14,400
MO: ST. LOUIS HA | 3520 PAGE BLVD, ST. LOUIS, MO 63106 | 0 | 3,400
MO: DALLAS COUNTY PHA | 215 SOUTH BARNES, SPRINGFIELD, MO 65802 | 0 | 3,200
MT: MT DEPT OF COMMERCE | 301 S. PARK, HELENA, MT 59620 | 0 | 1,600
NC: GREENSBORO HA | PO BOX 21287, GREENSBORO, NC 27420 | 0 | 15,400
NE: SOUTH SIOUX CITY HA | 118 E. 21ST ST, SOUTH SIOUX CITY, NE 68776 | 0 | 10,200
NY: HA OF AMSTERDAM | 52 DIVISION ST, AMSTERDAM, NY 12010 | 0 | 9,000
NY: VILLAGE OF COBLESKILL | 349 MINERAL SPRINGS RD, COBLESKILL, NY 12043 | 0 | 12,400
NY: NYS HSG TRUST FUND CORP | 38-40 STATE ST, ALBANY, NY 12207 | 0 | 25,600
OR: COMM SERV AGENCY OF LANE CO | 177 DAY ISLAND RD, EUGENE, OR 97401 | 0 | 4,000
OR: HA OF JACKSON COUNTY | 2231 TABLE ROCK RD, MEDFORD, OR 97501 | 0 | 9,600
PA: PHILADELPHIA HA | 12 SOUTH 23RD ST, PHILADELPHIA, PA 19103 | 0 | 9,800
PA: ALLEGHENY COUNTY HA | 625 STANWIX ST, 12TH FL, PITTSBURGH, PA 15222 | 0 | 5,400
PA: HA OF THE COUNTY OF BUTLER | 114 WOODY DR, BUTLER, PA 16001 | 0 | 600
PA: JOHNSTOWN HA | 501 CHESTNUT ST, JOHNSTOWN, PA 15907 | 0 | 6,800
PA: ERIE COUNTY HA | 120 S. CENTER, CORRY, PA 16407 | 0 | 4,800
RQ: MUNICIPALITY OF CAROLINA | PO BOX 8, CAROLINA, PR 00986 | 0 | 11,400
SD: CITY OF LENNOX HSNG & REDEV | 217 SOUTH PINE ST, LENNOX, SD 57039 | 0 | 600
SD: HURON HA | PO BOX 283, HURON, SD 57350 | 0 | 800
TN: KNOXVILLE COMM DEV CORP | PO BOX 3550, KNOXVILLE, TN 37927 | 0 | 13,000
TN: METROPOLITAN DEV & HA | 701 SOUTH SIXTH ST, NASHVILLE, TN 37202 | 0 | 67,200
TN: HA MURFREESBORO | 415 NORTH MAPLE ST, MURFREESBORO, TN 37130 | 0 | 3,000
TX: BEEVILLE HA | PO BOX 427, BEEVILLE, TX 78104 | 0 | 4,800
UT: HA OF CITY OF OGDEN | 1100 GRANT AVE, OGDEN, UT 84404 | 0 | 6,200
WA: SEATTLE HA | 120 SIXTH AVE NORTH, SEATTLE, WA 98109 | 0 | 9,600
WA: KING COUNTY HA | 600 ANDOVER PARK WEST, SEATTLE, WA 98188 | 0 | 18,600
WA: HA OF CITY OF BREMERTON | 110 RUSSELL RD, BREMERTON, WA 98312 | 0 | 9,800
WA: HA CITY OF EVERETT | 3107 COLBY AVE, EVERETT, WA 98206 | 0 | 12,800
WA: HA OF SNOHOMISH COUNTY | 12625 4TH AVE W, STE 200, EVERETT, WA 98204 | 0 | 8,400
WA: SPOKANE HA WEST | 55 MISSION ST, STE 104, SPOKANE, WA 99201 | 0 | 3,200
WI: BROWN COUNTY HA | 100 N JEFFERSON ST, RM 608, GREEN BAY, WI 54301 | 0 | 26,800
WI: MILWAUKEE CO HA | 2711 W WELLS ST, FL 1, RM 102, MILWAUKEE, WI 53208 | 0 | 5,800
WY: ROCK SPRINGS HA | 233 C ST, ROCK SPRINGS, WY 82901 | 0 | 4,400
Total for Special Fees—Opt-Outs/Terminations |  | 0 | 660,600
Special Fees—PD Relocation
MO: ST. LOUIS HA | 3520 PAGE BLVD, ST. LOUIS, MO 63106 | 0 | 6,400
MS: MERIDIAN HA | PO BOX 870, MERIDIAN, MS 39302 | 0 | 3,800
MS: HA SOUTH DELTA | 202 WESTON AVE, LELAND, MS 38756 | 0 | 2,000
Total for Special Fees—PD Relocation |  | 0 | 12,200
Special Fees—Prepayments
CA: OAKLAND HA | 1619 HARRISON ST, OAKLAND, CA 94612 | 0 | 16,600
CA: CITY OF LOS ANGELES HA | 2600 WILSHIRE BLVD, 3RD FL, LOS ANGELES, CA 90057 | 0 | 1,200
CA: COUNTY OF MONTEREY HA | 123 RICO ST, SALINAS, CA 93907 | 0 | 21,000
CA: ALAMEDA COUNTY HA | 22941 ATHERTON ST, HAYWARD, CA 94541 | 0 | 18,800
CA: COUNTY OF ORANGE HA | 1770 NORTH BROADWAY, SANTA ANA, CA 92706 | 0 | 3,200
CO: HA OF CITY AND CO OF DENVER | 777 GRANT ST, DENVER, CO 80203 | 0 | 22,000
CT: CONN DEPT OF SOC SERV | 25 SIGOURNEY ST, 9TH FL, HARTFORD, CT 06105 | 0 | 29,400
FL: MIAMI DADE HA | 701 NW 1ST COURT, 16TH FL, MIAMI, FL 33136 | 0 | 39,800
FL: HA OF HOLLYWOOD | 7300 N. DAVIE RD EXT, HOLLYWOOD, FL 33024 | 0 | 19,800
IL: CHICAGO HA | 60 EAST VAN BUREN ST, 11TH FL, CHICAGO, IL 60605 | 0 | 31,200
IL: ELGIN HA | 120 SOUTH STATE ST, ELGIN, IL 60123 | 0 | 6,000
KY: LOUISVILLE HA | 420 SOUTH EIGHTH ST, LOUISVILLE, KY 40203 | 0 | 80,200
KY: MAYFIELD HA | 312 BROOKSIDE DR, MAYFIELD, KY 42066 | 0 | 11,400
MA: BOSTON HA | 52 CHAUNCY ST, BOSTON, MA 02111 | 0 | 5,600
MA: CAMBRIDGE HA | 675 MASSACHUSETTS AVE, CAMBRIDGE, MA 02139 | 0 | 6,400
MA: BEVERLY HA | 137 REAR BRIDGE ST, BEVERLY, MA 01915 | 0 | 20,000
MA: COMM DEV PROG COMM OF MA, EOCD | 100 CAMBRIDGE ST, BOSTON, MA 02114 | 0 | 66,000
MD: HARFORD COUNTY HA | 15 SOUTH MAIN ST, STE 106, BEL AIR, MD 21014 | 0 | 32,000
MD: BALTIMORE CO. HSNG OFFICE | 6401 YORK RD, 1 ST FL, BALTIMORE, MD 21212 | 0 | 20,000
MI: DETROIT HSNG COMM | 1301 EAST JEFFERSON AVE, DETROIT, MI 48207 | 0 | 7,000
MI: MICHIGAN STATE HSG DEV AUTH | P.O. BOX 30044, LANSING, MI 48909 | 0 | 12,600
MN: WORTHINGTON HRA | 819 TENTH ST, WORTHINGTON, MN 56187 | 0 | 4,600
NC: WESTERN PIEDMONT COG | 736 4TH STREET SW., HICKORY, NC 28603 | 0 | 800
NE: BELLEVUE HA | 8214 ARMSTRONG CIRCLE, BELLEVUE, NE 68147 | 0 | 11,000
NY: HA OF SYRACUSE | 516 BURT ST, SYRACUSE, NY 13202 | 0 | 69,800
NY: HA OF SCHENECTADY | 375 BROADWAY, SCHENECTADY, NY 12305 | 0 | 4,000
NY: HA OF ROCHESTER | 675 WEST MAIN ST, ROCHESTER, NY 14611 | 0 | 95,800
NY: THE CITY OF NEW YORK DHPD | 100 GOLD ST, RM 501, NEW YORK, NY 10038 | 0 | 182,800
NY: CITY OF NIAGARA FALLS DCD | 1022 MAIN ST, NIAGARA FALLS, NY 14302 | 0 | 3,400
NY: NYS HSG TRUST FUND CORP | 38-40 STATE ST, ALBANY, NY 12207 | 0 | 102,800
OH: CUYAHOGA MHA | 8120 KINSMAN RD, CLEVELAND, OH 44104 | 0 | 1,600
OH: CINCINNATI METRO HA | 16 WEST CENTRAL PKWY, CINCINNATI, OH 45210 | 0 | 4,800
OH: GREENE METRO HA | 538 NORTH DETROIT ST, XENIA, OH 45385 | 0 | 9,200
OK: OKLAHOMA HSNG FIN AGENCY | PO BOX 26720, OKLAHOMA CITY, OK 73126 | 0 | 4,600
OR: HA OF THE COUNTY OF | PO BOX 1510, OREGON CITY, OR 97045 | 0 | 8,200
OR: COMM SERV AGENCY OF LANE CO | 177 DAY ISLAND RD, EUGENE, OR 97401 | 0 | 9,200
PA: PHILADELPHIA HA | 12 SOUTH 23RD ST, PHILADELPHIA, PA 19103 | 0 | 10,000
PA: HARRISBURG HA | 351 CHESTNUT ST, 12TH FL, HARRISBURG, PA 17101 | 0 | 21,200
PA: BEAVER COUNTY HA | 300 STATE ST, BEAVER, PA 15009 | 0 | 13,600
PA: WASHINGTON COUNTY HA | 100 SOUTH FRANKLIN ST, WASHINGTON, PA 15301 | 0 | 12,600
PA: JOHNSTOWN HA | 501 CHESTNUT ST, JOHNSTOWN, PA 15907 | 0 | 26,800
PA: ERIE COUNTY HA | 120 S. CENTER, CORRY, PA 16407 | 0 | 9,400
RI: EAST PROVIDENCE HA | 99 GOLDSMITH AVE, EAST PROVIDENCE, RI 02914 | 0 | 19,000
RI: RHODE ISLAND HSG MORT FIN CORP | 44 WASHINGTON ST, PROVIDENCE, RI 02903 | 0 | 10,200
SC: HA SOUTH CAROLINA REG NO 1 | 404 CHURCH ST, LAURENS, SC 29360 | 0 | 4,000
SC: HA GREENWOOD | PO BOX 973, GREENWOOD, SC 29648 | 0 | 16,400
TN: METROPOLITAN DEV & HA | 701 SOUTH SIXTH ST, NASHVILLE, TN 37202 | 0 | 19,800
TX: SAN ANTONIO HA | 818 S. FLORES ST, SAN ANTONIO, TX 78295 | 0 | 19,600
TX: MC ALLEN HA | 2301 JASMINE AVE, MC ALLEN, TX 78501 | 0 | 15,800
VA: ALEXANDRIA REDEV & HA | 600 N FAIRFAX ST, ALEXANDRIA, VA 22314 | 0 | 4,000
VA: ROANOKE REDEV & HA | 2624 SALEM TRNPK, NW., ROANOKE, VA 24017 | 0 | 0
VA: CHARLOTTESVILLE REDEV & HA | 605 EAST MAIN ST, RM A040, CHARLOTTESVILLE, VA 22902 | 0 | 32,400
VA: HAMPTON REDEV & HA | P.O. BOX 280, HAMPTON, VA 23669 | 0 | 600
VA: VIRGINIA HSNG DEV AUTH | 601 SOUTH BELVIDERE ST, RICHMOND, VA 23220 | 0 | 32,000
VT: RUTLAND HA | 5 TREMONT ST, RUTLAND, VT 05701 | 0 | 24,200
WA: SEATTLE HA | 120 SIXTH AVE NORTH, SEATTLE, WA 98109 | 0 | 39,800
WA: HA OF CITY OF YAKIMA | 810 N 6TH AVE, YAKIMA, WA 98902 | 0 | 3,200
WI: SHEBOYGAN HA | PO BOX 1052, SHEBOYGAN, WI 53082 | 0 | 1,600
WY: ROCK SPRINGS HA | 233 C ST, ROCK SPRINGS, WY 82901 | 0 | 1,000
Total for Special Fees—Prepayments |  | 0 | 1,320,000
Special Fees—Rent Supplements
CA: CITY OF SAN LUIS OBISPO HA | 487 LEFF STREET, SAN LUIS OBISPO, CA 93406 | 0 | 1,400
CT: TORRINGTON HA | 110 PROSPECT ST, TORRINGTON, CT 06790 | 0 | 7,200
CT: CONN DEPT OF SOC SERV | 25 SIGOURNEY ST, 9TH FL, HARTFORD, CT 06105 | 0 | 2,600
MA: BOSTON HA | 52 CHAUNCY ST, BOSTON, MA 02111 | 0 | 6,200
NY: HA OF HARRIETSTOWN | 14 KIWASSA ROAD, STE 1, SARANAC LAKE, NY 12983 | 0 | 1,600
SD: CANTON HSNG & REDEV COMM | 903 W. FIFTH ST, CANTON, SD 57013 | 0 | 1,000
WA: SEATTLE HA | 120 SIXTH AVE NORTH, SEATTLE, WA 98109 | 0 | 16,800
Total for Special Fees—Rent Supplements |  | 0 | 36,800
Total for Special Fees |  | 0 | 2,029,660
Grand Total |  | 16,436 | 119,362,818

[FR Doc. 2013-01891 Filed 1-29-13; 8:45 am]

BILLING CODE 4210-67-P